DEPARTMENT OF TRANSPORTATION

Federal Aviation Administration

14 CFR Part 39

[Docket No. 2000-NE-47-AD; Amendment 39-13318; AD 2003-19-15]

RIN 2120-AA64

Airworthiness Directives; Pratt & Whitney PW4000 Series Turbofan Engines; Correction

AGENCY: Federal Aviation Administration, DOT.

ACTION: Final rule; correction.

SUMMARY: This document makes a correction to Airworthiness Directive (AD) 2003-19-15, applicable to Pratt & Whitney PW4000 series turbofan engines. AD 2003-19-15 was published in the Federal Register on September 30, 2003 (68 FR 56143). In the amendatory language, under § 39.13 [Amended], the amendment number of the new action was inadvertently omitted. This document corrects that omission. In all other respects, the original document remains the same.

EFFECTIVE DATE: October 9, 2003.

FOR FURTHER INFORMATION CONTACT: Diane Cook, Aerospace Engineer, Engine Certification Office, FAA, Engine and Propeller Directorate, 12 New England Executive Park, Burlington, MA 01803-5299; telephone (781) 238-7133; fax (781) 238-7199.

SUPPLEMENTARY INFORMATION: A final rule airworthiness directive, FR Doc. 03-24486, applicable to Pratt & Whitney PW4000 series turbofan engines, was published in the Federal Register on September 30, 2003 (68 FR 56143). The following correction is needed:

On page 56145, in the second column, under § 39.13 [Amended], in the sixth line, add “Amendment 39-13318.” after “Pratt & Whitney:”.

Issued in Burlington, MA, on October 3, 2003.
Jay J. Pardee,
Manager, Engine and Propeller Directorate, Aircraft Certification Service.

[FR Doc. 03-25577 Filed 10-8-03; 8:45 am]

BILLING CODE 4910-13-P